DEPARTMENT OF EDUCATION

Office of Special Education and Rehabilitative Services; Overview Information; Technical Assistance and Dissemination to Improve Services and Results for Children With Disabilities—Center on Positive Behavioral Supports; Notice Inviting Applications for New Awards for Fiscal Year (FY) 2008.

Catalog of Federal Domestic Assistance (CFDA) Number: 84.326S.

Dates:

Applications Available: July 30, 2008.

Deadline for Transmittal of Applications: August 29, 2008.

Deadline for Intergovernmental Review: September 8, 2008.

Full Text of Announcement

I. Funding Opportunity Description

Purpose of Program: The purpose of the Technical Assistance and Dissemination to Improve Services and Results for Children With Disabilities program is to promote academic achievement and to improve results for children with disabilities by providing technical assistance (TA), supporting model demonstration projects, disseminating useful information, and implementing activities that are supported by scientifically based research.

Priority: In accordance with 34 CFR 75.105(b)(2)(v), this priority is from allowable activities specified or otherwise authorized in the statute (see sections 663 and 681(d) of the Individuals with Disabilities Education Act (IDEA), 20 U.S.C. 1400 et seq.).

Absolute Priority: For FY 2008 and any subsequent year in which we make awards based on the list of unfunded applicants from this competition, this priority is an absolute priority. Under 34 CFR 75.105(c)(3), we consider only applications that meet this priority.

This priority is:

Technical Assistance and Dissemination to Improve Services and Results for Children With Disabilities—Center on Positive Behavioral Supports.

Background

The 1997 amendments to IDEA introduced the requirement that individualized education program (IEP) teams consider the use of positive behavioral interventions and supports, and other strategies, to address the behavior of a child with disabilities whose behavior impedes the child's learning or that of others. In response, the Office of Special Education Programs (OSEP) funded the Technical Assistance Center on Positive Behavioral Interventions and Supports (PBIS Center I) in 1998 to assist State educational agencies (SEAs) and local educational agencies (LEAs) address this new statutory requirement.

PBIS Center I adapted and built upon a mental health prevention model to address behavioral problems in schools and programs (e.g., early childhood and juvenile justice programs), and developed a framework for implementing school-wide and program-wide positive behavioral supports (PBS). The framework consisted of the following three levels of interventions: primary, secondary, and tertiary. Primary interventions are system-wide strategies that support the appropriate behavior of all students in a school or program. Secondary interventions are targeted interventions for students at-risk for behavioral problems. Tertiary interventions are the most intensive and consist of individualized interventions for students exhibiting more serious behavioral problems. PBIS Center I studied the evidence base for implementing primary, secondary, and tertiary interventions in schools and programs, and began to identify the school and program components (e.g., training, coaching, and leadership) needed to support implementation of the three levels of interventions.

The second iteration of the PBIS Center (PBIS Center II), funded in 2003, continued the work of PBIS Center I and strengthened the evidence base for implementing primary, secondary, and tertiary interventions in schools and programs by evaluating, documenting, and disseminating information on the implementation of PBS components, identified during PBIS Center I, in a variety of demonstration sites. PBIS Center II also continued to identify and further develop school and program components needed for successful implementation of PBS, including among others, systems that support training and coaching for staff supporting the implementation of PBS, and collecting and using data to scale up and sustain PBS. In addition, PBIS Center II provided TA to SEAs and LEAs to develop their capacity to implement and sustain these components in schools or programs. (For additional information on the work of PBIS Center II, go to http://www.pbis.org).

PBIS Center II focused primarily on implementing, scaling up, and sustaining primary interventions needed to support positive behaviors and prevent problem behaviors in all students in a school or program, and identifying secondary interventions for students at risk for behavior problems.

The Department seeks to fund another PBS center to continue to assist SEAs and LEAs with implementing, scaling up, and sustaining secondary interventions for students at-risk for developing behavioral problems and tertiary interventions for students with more serious behavioral problems.

Priority

The purpose of this priority is to fund a cooperative agreement to support the establishment and operation of a Center for Positive Behavioral Supports (Center) that will (1) assist SEAs and LEAs in developing the school and program components necessary to support the implementation, scaling up, and sustainability of school-wide and program-wide PBS at the school, program, LEA, and SEA levels and (2) identify and disseminate evidence-based practices on implementing, scaling up, and sustaining PBS, with a focus on secondary and tertiary level behavior interventions.

To be considered for funding under this absolute priority, applicants must meet the application requirements contained in this priority. The project funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web site provides more information on logic models and lists multiple online resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget to support two full-time doctoral students to serve as project assistants during each year of the project period. The doctoral students' studies and research must have a concentration in special education, behavioral disorders, or a related area;

(f) A budget for attendance at the following:

(1) A one and one half day kick-off meeting to be held in Washington, DC within four weeks after receipt of the award, and at least two annual planning meetings held in Washington, DC with the OSEP Project Officer during the project period.

(2) A three-day Project Directors' Conference in Washington, DC during each year of the project period.

(3) A four-day Technical Assistance and Dissemination Conference in Washington, DC during each year of the project period.

(4) Two, two-day trips annually to attend Department briefings, Department-sponsored conferences, and other meetings, as requested by OSEP; and

(g) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities

(a) Conduct an annual survey of SEAs to assess their capacity to support PBS at the State level and in schools, programs, and LEAs, and identify any policies and practices that facilitate or hinder implementing, scaling up, and sustaining PBS.

(b) Identify existing or develop new model demonstration sites implementing school-wide PBS with a focus on secondary interventions for students at risk for behavioral problems, and tertiary interventions for students with significant behavioral problems. The Center must evaluate these new model demonstrations at the individual school or program level, in a minimum of eight sites, which must include high schools and schools in urban areas. Through these model demonstrations, the Center must identify and describe the components of the models (e.g., training, and use of data) that lead to improved student outcomes, including academic achievement, and the sustainability of the model. The Center must analyze the information from these sites and incorporate the information as appropriate, into the evidence base for PBS.

(c) Review and synthesize the growing research and practice on PBS and prepare three state of knowledge papers on: Primary interventions, to be completed in the first year of the project period; secondary interventions, to be completed in the second year of the project period; and tertiary interventions, to be completed in the fourth year of the project period.

Technical Assistance and Dissemination Activities

(a) Provide TA to SEAs and LEAs to assist them in developing the components to support the implementation, scaling up, and sustainability of PBS at the school, program, LEA, and SEA levels. The Center must use the knowledge gained from the research syntheses and the model demonstrations to inform its TA.

(b) Develop and expand, as appropriate, an evaluation protocol that schools, programs, LEAs, and SEAs can use to evaluate their implementation of school-wide and program-wide PBS.

(c) Develop, maintain, and expand, as appropriate, an Internet-based database that schools, programs, LEAs, and SEAs can use to input and analyze data on behavioral measures, such as office discipline referrals, so that they can track their progress and make data-based decisions on their implementation of PBS. The Center must develop training materials for schools, programs, LEAs, and SEAs on how to use the database. The Center also must aggregate and analyze the data in the database to discern trends and patterns related to the implementation of PBS, as requested by OSEP.

(d) Develop and coordinate a national TA network comprised of a cadre of experts that the Center will use to provide TA to SEAs and LEAs to assist them in developing school and program components necessary to support PBS and in implementing, scaling-up, and sustaining PBS.

(e) Conduct national and regional meetings, including large-scale dissemination conferences on PBS, focused forums for those who train or coach school and program personnel on implementing PBS, topical symposia, and other meetings on related issues, as requested by OSEP. At a minimum, the Center must hold a national forum for those who train or coach school personnel on implementing, scaling up and sustaining PBS every year of the project period. The purpose of these meetings is to increase the knowledge and skills of State level PBS implementers through presentations on the critical components of PBS, and to provide networking opportunities and skill-building workshops related to training and coaching techniques.

(f) Develop partnerships with relevant local, State, and national organizations, such as teacher, school administrator, teacher trainer, and parent organizations, to increase their awareness and understanding of PBS so that they can support schools, programs, LEAS, and SEAs in implementing, scaling-up, and sustaining PBS.

(g) Maintain a Web site that meets a government or industry-recognized standard for accessibility and that links to the Web site operated by the Technical Assistance Coordination Center (TACC), which OSEP intends to fund in FY 2008.

(h) Prepare and disseminate products, reports, documents, and other materials on evidence-based practices and interventions that promote the implementation, scaling up, and sustainability of school-wide and program-wide PBS and related topics, as requested by OSEP, for specific audiences including families, educators, administrators, policymakers, and researchers. In consultation with the OSEP Project Officer, make selected reports, documents, products, and other materials publicly available in both English and Spanish.

(i) Develop materials and guidance for SEAs and provide targeted TA related to the performance and compliance indicator(s) on their IDEA Annual Performance Reports (APRs) and IDEA State Performance Plans (SPPs), as requested by OSEP.

Leadership and Coordination Activities

(a) Compile and share data on States' APRs and updated SPPs for IDEA Part B indicator 4 (Suspension and Expulsion) by—

(1) Reviewing relevant sections of each State's APR and updated SPP and summarizing the data on this indicator;

(2) Developing a summary report for this indicator that includes information about States' progress in meeting targets for the indicator, as well as any revisions made to States' monitoring and data systems, measurement systems, or improvement strategies; and

(3) Providing this summary report to OSEP in a timely manner and participating in OSEP-requested teleconferences to discuss the findings of the summary report.

Note: (For further information on Indicator 4, go to http://www.rrfcnetwork.org/content/view/248/358/).

(b) Communicate and collaborate, on an ongoing basis, with OSEP-funded projects, including the Center on State Implementation and Scaling-up of Evidence-based Practices, the Response to Intervention Center, the Progress Monitoring Center, the IDEA Partnership Project, the Regional Resource Centers, and the National Parent Technical Assistance Center. This collaboration could include the joint development of products, the coordination of TA services, and the planning and carrying out of TA meetings and events.

(c) Participate in, organize, or facilitate, as appropriate, OSEP communities of practice (http://www.tacommunities.org/) that are aligned with the Center's objectives as a way to support discussions and collaboration among key stakeholders.

(d) Prior to developing any new product, whether paper or electronic, submit to the OSEP Project Officer and the Proposed Product Advisory Board at OSEP's TACC for approval, a proposal describing the content and purpose of the product.

(e) Coordinate with the Dissemination Center, which OSEP intends to fund in FY 2008, to develop an efficient and high-quality dissemination strategy that reaches target audiences. The Center must report to the OSEP Project Officer the outcomes of these coordination efforts.

(f) Contribute, on an ongoing basis, updated information on the Center's services to OSEP's Technical Assistance and Dissemination Matrix (http://matrix.rrfcnetwork.org/), which provides current information on Department-funded TA services to a range of stakeholders.

(g) Maintain ongoing communication with the OSEP Project Officer through monthly phone conversations and e-mail communication.

Fourth and Fifth Years of the Project

In deciding whether to continue funding the Center for the fourth and fifth years, the Secretary will consider the requirements of 34 CFR 75.253(a), and in addition—

(a) The recommendation of a review team consisting of experts selected by the Secretary. This review will be conducted during a one-day intensive meeting in Washington, DC that will be held during the last half of the second year of the project period. The Center must budget for travel expenses associated with this one-day intensive review;

(b) The timeliness and effectiveness with which all requirements of the negotiated cooperative agreement have been or are being met by the Center; and

(c) The quality, relevance, and usefulness of the Center's activities and products and the degree to which the Center's activities and products have contributed to changed practice and improved implementation of PBS.

References

Coie, J. D., & Dodge, K. A. (1983). Continuities and changes in children's social status: A five-year longitudinal study. Merrill-Palmer Quarterly, 29, 261-282.

Gresham, F. M. (2002). Teaching social skills to high risk children and youth: Preventive and remedial strategies. In M. Shinn, H. Walker, & G. Stoner (Eds.), Interventions for academic and behavior problems II: Preventive and remedial strategies (pp. 403-432). Bethesda, MD: National Association of School Psychologists.

Wagner, M., Cameto, R. (2004). The Characteristics, Experiences, and Outcomes of Youth with Emotional Disturbances. A Report from the National Longitudinal Transition Study-2. Volume 3, Issue 2. National Center on Secondary Education and Transition, University of Minnesota (NCSET). (ED484283)

Wagner, M., Cameto, R., & Newman, L. (2003). Youth with disabilities: A changing population. A report of findings from the National Longitudinal Transition Study (NLTS) and the National Longitudinal Transition Study-2 (NLTS2). Menlo Park, CA: SRI International.

Wagner, M., Newman, L., Cameto, R. (2005). Changes over Time in the Secondary School Experiences of Students with Disabilities. A Report of Findings from the National Longitudinal Transition Study (NLTS) and the National Longitudinal Transition Study-2 (NLTS2). Menlo Park, CA: SRI International.

Wagner, M., Newman, L., Cameto, R., & Levine, P. (2005). Changes over time in the early postschool outcomes of youth with disabilities. A report of findings from the National Longitudinal Transition Study (NLTS) and the National Longitudinal Transition Study-2 (NLTS2). Menlo Park, CA: SRI International.

Waiver of Proposed Rulemaking

Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative agreements.

Estimated Available Funds: $1,700,000.

Estimated Average Size of Awards: $1,700,000.

Number of Awards: 1.

Maximum Awards: We will reject any application that proposes a budget exceeding $1,700,000 for a single budget period of 12 months. The Assistant Secretary for Special Education and Rehabilitative Services may change the maximum amount through a notice published in the Federal Register.

Note: The Department is not bound by any estimates in this notice.

Project Period: Up to 60 months.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and award recipients funded under this competition must involve individuals with disabilities or parents of individuals with disabilities ages birth through 26 in planning, implementing, and evaluating the projects (see section 682(a)(1)(A) of IDEA).

IV. Application and Submission Information

1. Address To Request Application Package: Education Publications Center (ED Pubs), P.O. Box 1398, Jessup, MD 20794-1398. Telephone, toll-free: 1-877-433-7827. FAX: (301) 470-1244. If you use a telecommunications device for the deaf (TDD), call, toll-free: 1-877-576-7734.

You can contact ED Pubs at its Web site, also: http://www.ed.gov/pubs/edpubs.html or at its e-mail address: edpubs@inet.ed.gov.

If you request an application package from ED Pubs, be sure to identify this program or competition as follows: CFDA Number 84.326S.

Individuals with disabilities can obtain a copy of the application package in an alternative format (e.g., Braille, large print, audiotape, or computer diskette) by contacting the person or team listed under Alternative Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5” x 11”, on one side only, with 1” margins at the top, bottom, and both sides.

• Double space (no more than three lines per vertical inch) all text in the application narrative, including titles, headings, footnotes, quotations, references, and captions, as well as all text in charts, tables, figures, and graphs.

• Use a font that is either 12 point or larger, or no smaller than 10 pitch (characters per inch).

The page limit does not apply to Part I, the cover sheet; Part II, the budget section, including the narrative budget justification; Part IV, the assurances and certifications; or the one-page abstract, the resumes, the bibliography, the references, or the letters of support. The page limit, however, does apply to the application narrative in Part III.

We will reject your application if you exceed the page limit or if you use other standards and exceed the equivalent of the page limit.

3. Submission Dates and Times:

Applications Available: July 30, 2008.

Deadline for Transmittal of Applications: August 29, 2008.

Applications for grants under this competition may be submitted electronically using the Grants.gov Apply site (Grants.gov), or in paper format by mail or hand delivery. For information (including dates and times) about how to submit your application electronically, or in paper format by mail or hand delivery, please refer to section IV.6. Other Submission Requirements in this notice.

We do not consider an application that does not comply with the deadline requirements.

Individuals with disabilities who need an accommodation or auxiliary aid in connection with the application process should contact the person listed under For Further Information Contact in section VII in this notice. If the Department provides an accommodation or auxiliary aid to an individual with a disability in connection with the application process, the individual's application remains subject to all other requirements and limitations in this notice.

Deadline for Intergovernmental Review: September 8, 2008.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this competition may be submitted electronically or in paper format by mail or hand delivery.

a. Electronic Submission of Applications.

To comply with the President's Management Agenda, we are participating as a partner in the Governmentwide Grants.gov Apply site. The Center on Positive Behavioral Supports competition, CFDA Number 84.326S, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Center on Positive Behavioral Supports competition at http://www.Grants.gov. You must search for the downloadable application package for this competition by the CFDA number. Do not include the CFDA number's alpha suffix in your search (e.g., search for 84.326, not 84.326S).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) Registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a. DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326S), 400 Maryland Avenue, SW., Washington, DC 20202-4260; or

By mail through a commercial carrier: U.S. Department of Education, Application Control Center, Stop 4260, Attention: (CFDA Number 84.326S), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326S), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Peer Review: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children With Disabilities program. These measures focus on the extent to which projects provide high quality products and services, the relevance of project products and services to educational and early intervention policy and practice, and the use of products and services to improve educational and early intervention policy and practice.

Grantees also will be required to report information on their project's performance, including information related to the performance measures in this section, in annual reports to the Department (34 CFR 75.590).

VII. Agency Contact

FOR FURTHER INFORMATION CONTACT: Renee Bradley, U.S. Department of Education, 400 Maryland Avenue, SW., room 4103, Potomac Center Plaza (PCP), Washington, DC 20202-2550. Telephone: (202) 245-7277.

If you use a TDD, call the Federal Relay Service (FRS), toll free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 24, 2008.
Tracy R. Justesen,
Assistant Secretary for Special Education and Rehabilitative Services.

[FR Doc. E8-17407 Filed 7-29-08; 8:45 am]

BILLING CODE 4000-01-P